DEPARTMENT OF THE INTERIOR

Bureau of Land Management

[AZ-931-1430-ET; AZA-33316 et al.]

Notice of Proposed Withdrawal and Opportunity for Public Meeting; Arizona

AGENCY: Bureau of Land Management, Interior.

ACTION: Notice.

SUMMARY: The United States Forest Service has filed applications requesting the Secretary of the Interior to withdraw 3,130.64 acres of National Forest System lands from mining to protect the resources and future Federal investments in the Coronado National Forest, Arizona. This notice segregates the lands for up to 2 years from location and entry under the United States mining laws. The lands will remain open to all other uses which may by law be authorized on National Forest System lands.

DATES: Comments must be received by no later than January 29, 2007.

ADDRESSES: Comments and meeting requests should be sent to the Bureau of Land Management, One North Central Avenue, Suite 800, Phoenix, Arizona 85004, and to the Forest Supervisor, Coronado National Forest, 300 West Congress, Tucson, Arizona 85701.

FOR FURTHER INFORMATION CONTACT: George McKay, Coronado National Forest, at the above address or at (520) 388-8423.

SUPPLEMENTARY INFORMATION: The United States Forest Service has filed applications with the Bureau of Land Management, pursuant to section 204 of the Federal Land Policy and Management Act of 1976, 43 U.S.C. 1714, to withdraw for 20 years the following described National Forest System lands within the Coronado National Forest from location and entry under the United States mining laws, subject to valid existing rights:

Gila and Salt River Base and Meridian

Guidani Basin (AZA 33316)

T. 18 S., R. 19 E.,

Secs. 21 and 22;

Sec. 23, lots 2 and 3, W½W½ and SE¼SW¼;

Sec. 24, lots 3 and 4;

Sec. 25, W½;

Sec. 26, N½ and N½N½S½;

Sec. 27, NE¼, N½NW¼, N½SE¼NW¼, and NE¼SE¼.

The area described contains 2595.64 acres, more or less, in Cochise County.

Gordon Hirabayashi Recreation and Historic Site (AZA 33318)

T. 12 S., R. 16 E.,

Sec. 33, SW¼SW¼.

T. 13 S., R. 16 E., sec. 4, NW¼NW¼.

The area described contains 80 acres, more or less, in Pima County.

Fish Canyon Camp Historic Site (AZA 33361)

T. 19 S., R. 16 E.,

Sec. 31, S½NE¼SW¼, and N½SE¼SW¼.

The area described contains 40 acres, more or less, in Pima County.

Elgin Research Natural Area (AZA 33317)

T. 21 S., R. 18 E.,

Sec. 26, W½W½E½NE¼, W½NE¼, E½NW¼, E½SW¼, E½SE¼SW¼SW¼, W½W½NE¼SE¼, and W½SE¼.

The area described contains 355 acres, more or less, in Santa Cruz County.

Alto Post Office Historic Site (AZA 33329)

T. 21 S., R. 14 E.,

Sec. 11, W½SE¼NE¼, LESS AND EXCEPTING all that portion of Mineral Survey No. 2154A.

The area described contains 20 acres, more or less, in Santa Cruz County.

Brown Canyon Ranch Historic Site (AZA 33330)

T. 22 S., R. 18 E.,

Sec. 34, NW¼SE¼.

The area described contains 40 acres, more or less, in Santa Cruz County.

The use of a right-of-way, an interagency agreement, or a cooperative agreement would not adequately constrain nondiscretionary mining locations and related uses which could irrevocably damage the areas and threaten public health and safety and Federal investments.

There are no suitable alternative sites that can be considered because the lands contain the specific resources, values or Federal improvements described in the applications.

No water rights will be needed to fulfill the purpose of this withdrawal.

Preliminary mineral potential evaluations found the lands in Guidani Basin (AZA 33316), Fish Canyon Camp Historic Site (AZA 33361) and Alto Post Office Historic Site (AZA 33329) to have moderate potential for locatable minerals. All of the other above-described areas were found to have low potential for locatable minerals.

The purpose of the proposed withdrawal would be to protect the unique natural resources, historical and cultural values, and Federal improvements.

For a period of 90 days from the date of publication of this notice, all persons who wish to submit comments, suggestions, or objections in connection with the proposed withdrawal may present their views in writing to the Forest Supervisor of the Coronado National Forest.

Notice is hereby given that an opportunity for a public meeting is afforded in connection with the proposed withdrawal. All interested persons who desire a public meeting for the purpose of being heard on the proposed withdrawal must submit a written request, by the date specified above, to the Bureau of Land Management and to the Forest Supervisor, Coronado National Forest, at the addresses specified above. Upon determination by the authorized officer, Bureau of Land Management, that a public meeting will be held, a notice of time and place will be published in the Federal Register at least 30 days before the scheduled date of the meeting.

The applications will be processed in accordance with the regulations set forth in 43 CFR part 2300.

Comments, including names and street addresses of respondents, will be available for public review at the Coronado National Forest, 300 West Congress, Tucson, Arizona 85701 during regular business hours, 8 a.m. to 4 p.m., Monday through Friday, except holidays. Individual respondents may request confidentiality. If you wish to withhold your name or address from public review or from disclosure under the Freedom of Information Act, you must state this prominently at the beginning of your comments. Such requests will be honored to the extent allowed by law. All submissions from organizations or businesses, and from individuals identifying themselves as representatives or officials of organizations or businesses, will be made available for public inspection in their entirety.

On October 30, 2006 the above-described lands will be segregated from location and entry under the United States mining laws. The segregative effect of each application shall terminate upon denial or cancellation of the applications; approval of the applications; or October 30, 2008, whichever occurs first.

Records relating to the applications can be examined by interested persons at the Bureau of Land Management, One North Central Avenue, Suite 800, Phoenix, Arizona, during regular business hours, 9 a.m. to 4 p.m., Monday through Friday.

(Authority: 43 CFR 2310.3-1(a))

Dated: September 20, 2006.
Michael A. Taylor,
Deputy State Director, Resources.

[FR Doc. E6-18152 Filed 10-27-06; 8:45 am]

BILLING CODE 4310-32-P